DEPARTMENT OF COMMERCE

National Oceanic and Atmospheric Administration

Science Advisory Board

AGENCY: National Oceanic and Atmospheric Administration (NOAA), Department of Commerce (DOC).

ACTION: Notice of public meetings.

SUMMARY: This notice sets forth the schedule and proposed agenda for a meeting of the Science Advisory Board (SAB). The members will discuss issues outlined in the section on Matters to be considered.

DATES: The meeting is scheduled for March 19, 2024 from 8:30 a.m. to 5 p.m. Eastern Standard Time (EST) and March 20, 2023 from 8:30 a.m. to 5 p.m. EST. These times and the agenda topics described below are subject to change. For the latest agenda please refer to the SAB website: https://sab.noaa.gov/SABMeetings/.

ADDRESSES: The meeting location is at the Westin Center City, Washington, DC, 1400 M Street NW, Washington, DC 20005. The exact meeting location and a link for the webinar registration will be posted, when available, on the SAB website: https://sab.noaa.gov/current-meetings/.

FOR FURTHER INFORMATION CONTACT: Casey Stewart, Executive Director, SSMC3, Room 11360, 1315 East-West Hwy., Silver Spring, MD 20910; Phone Number: 240-381-0833; Email: noaa.scienceadvisoryboard@noaa.gov; or visit the SAB website at https://sab.noaa.gov/current-meetings/.

SUPPLEMENTARY INFORMATION: The NOAA Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Status: The March 19-20, 2024 meeting will be open to public participation with a 15-minute public comment period at 4:45 p.m. EST on March 20, 2024. The SAB expects that public statements presented at its meetings will not be repetitive of previously submitted verbal or written statements. In general, each individual or group making a verbal presentation will be limited to a total time of three minutes. Written comments for the March 19 and 20, 2024 meeting should be received by the SAB Executive Director's Office (noaa.scienceadvisoryboard@noaa.gov) by March 12, 2024 to provide sufficient time for SAB review. Written comments received by the SAB Executive Director after these dates will be distributed to the SAB, but may not be reviewed prior to the meeting date.

Special Accommodations: These meetings are physically accessible to people with disabilities. Requests for special accommodations may be directed to the Executive Director no later than 12 p.m. on March 12, 2024.

Matters to be Considered: The meeting on March 19-20, 2024 will include the following topics: (1) the NOAA Update, (2) NOAA Science Update, (3) Presentation on the EISWG Annual Report to Congress, (6) TSTAP Annual Report and white paper on complicated water ways, (7) NOAA DEIA Report Response, (8) Presentation on NOAA Report Response for Rapidly Changing Marine Environment Report, (9) Presentation on NOAA Response to White Paper on Air Quality in a Changing Climate, and (10) NOAA Response to DAARWG Report on the NESDIS Common Cloud Framework. Meeting materials, including work products, will also be available on the SAB website: https://sab.noaa.gov/current-meetings/current-meeting-documents/.

David Holst,
Chief Financial Officer/Administrative Officer, Office of Oceanic and Atmospheric Research, National Oceanic and Atmospheric Administration.

[FR Doc. 2024-04082 Filed 2-27-24; 8:45 am]

BILLING CODE 3510-KD-P